ENVIRONMENTAL PROTECTION AGENCY

40 CFR Part 300

[EPA-HQ-SFUND-1989-0008; FRL-8268-5]

National Oil and Hazardous Substances Pollution Contingency Plan; National Priorities List

AGENCY: Environmental Protection Agency (EPA).

ACTION: Notice of intent to delete the Berkley Products Company Dump Priorities List Site from the National Priorities List; request for comments.

SUMMARY: The Environmental Protection Agency (EPA) Region III announces its intent to delete Berkley Products Company Dump Superfund Site (Site), located in West Cocalico Township, Lancaster County, Pennsylvania from the National Priorities List (NPL) and requests public comment on this proposed action. The NPL constitutes Appendix B of 40 CFR Part 300, which is the National Oil and Hazardous Substances Pollution Contingency Plan (NCP), which EPA promulgated pursuant to Section 105 of the Comprehensive Environmental Response, Compensation, and Liability Act (CERCLA).

EPA bases its proposal to delete the Site on the determination by EPA and the Commonwealth of Pennsylvania, through the Pennsylvania Department of Environmental Protection (PADEP), that all appropriate actions under CERCLA, other than operation and maintenance and five-year reviews, have been implemented to protect human health, welfare and the environment. However, this deletion does not preclude future actions under Superfund.

In the “Rules and Regulations” Section of today's Federal Register, EPA is publishing a direct final notice of deletion of Berkley Products Company Dump Superfund Site without prior notice of intent to delete because EPA views this as a noncontroversial revision and anticipates no adverse comment. EPA has explained its reasons for this deletion in the preamble to the direct final deletion. If EPA receives no adverse comment(s) on this notice of intent to delete or the direct final notice of deletion, EPA will not take further action. If EPA receives adverse comment(s), EPA will withdraw the direct final notice of deletion and it will not take effect. EPA will, as appropriate, address all public comments in a subsequent final deletion notice based on this notice of intent to delete. Any parties interested in commenting must do so at this time. For additional information, see the direct final notice of deletion which is located in the Rules section of this Federal Register.

DATES: Comments must be received on or before February 20, 2007.

ADDRESSES: Submit your comments, identified by Docket ID No. EPA-HQ-SFUND-1989-0008, by one of the following methods:

• www.regulations.gov: Follow the on-line instruction for submitting comments.

• E-mail: schrock.roy@epa.gov.

• Fax: 215-814-3002.

• Mail: Mr. Roy Schrock, Remedial Project Manager (3HS22), U.S. EPA, Region 3, 1650 Arch Street, Philadelphia, Pennsylvania 19103-2029.

• Hand Delivery: 1650 Arch Street, Philadelphia, Pennsylvania 19103-2029. Such deliveries are only accepted during the Docket's normal hours of operation, and special arrangements should be made for deliveries of boxed information.

Instructions: Direct your comments to Docket ID No. EPA-HQ-SFUND-1989-0008. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA's Region III, Regional Center for Environmental Information (RCEI) 2nd floor, 1650 Arch Street, Philadelphia, Pennsylvania, 19103-1029, (215) 814-5254 OR (800) 553-2509 Monday through Friday 8 a.m. to 5 p.m. excluding legal holidays.

FOR FURTHER INFORMATION CONTACT: Mr. Roy Schrock, Remedial Project Manager (3HS22), U.S. Environmental Protection Agency, Region III, 1650 Arch Street, Philadelphia, Pennsylvania 19103-2029; telephone number: 1-800-553-2509 or (215) 814-3210; fax number: 215-814-3002; e-mail address: schrock.roy@epa.gov.

SUPPLEMENTARY INFORMATION: For additional information, see the Direct Final Notice of Deletion which is located in the Rules Section of this Federal Register.

Information Respositories: Repositories have been established to provide detailed information concerning this decision at the following address:

U.S. EPA Region III, Regional Center for Environmental Information (RCEI), 2nd floor, 1650 Arch Street, Philadelphia, Pennsylvania, 19103-2029, (215) 814-5254 or (800) 553-2509 Monday through Friday 8 a.m. to 5 p.m.

West Cocalico Township Municipal Building, 156B, West Main Street, Reinholds, Pennsylvania 17569, Monday through Friday 8 a.m. to 4:30 p.m.

List of Subjects in 40 CFR Part 300

Environmental protection, Air pollution control, Chemicals, Hazardous waste, Hazardous substances, Intergovernmental relation, Penalties, Reporting and recordkeeping requirements, Superfund, Water pollution control, Water supply.

Authority: 33 U.S.C. 1321(c)(2); 42 U.S.C. 9601-9657; E.O.12777, 56 FR 54757, 3 CFR, 1991 Comp., p. 351; E.O. 12580, 52 FR 2923; 3 CFR, 1987 Comp., p. 193.

Dated: November 16, 2006.
Donald Welsh,
Regional Administrator, Region III.

[FR Doc. E7-534 Filed 1-17-07; 8:45 am]

BILLING CODE 6560-50-P